DEPARTMENT OF JUSTICE

Notice of Lodging of Consent Decree Pursuant to The Comprehensive Environmental Response Compensation and Liability Act (CERCLA)

Notice is hereby given that on January 5, 2010, a proposed Consent Decree in United States v. Louis Vinagro Jr., CIV No. 07-264S (D.R.I.) was lodged with the United States District Court for the District of Rhode Island.

The proposed Consent Decree is between the United States on behalf of the United States Environmental Protection Agency (“EPA”) and Louis Vinagro, Jr. (“Defendant”) The proposed Consent Decree resolves claims against the Defendant under Section 107 of the Comprehensive Environmental Response, Compensation, and Liability Act, as amended (“CERCLA”), 42 U.S.C. 9607 related to the Green Hill Road Superfund Site in Johnston, Rhode Island. Under the proposed Consent Decree, the Defendant agrees to sell property he owns and pay to the United States from the proceeds $1,975,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Louis Vinagro Jr., CIV No. 07-264S (D.R.I.), D.J. Ref. 90-11-2-407/5.

The proposed Consent Decree may be examined at the Office of the United States Attorney, District of Rhode Island, 50 Kennedy Plaza, 8th Floor, Providence, RI 02903 and at the United States Environmental Protection Agency, Region I, 5 Post Office Square, Suite 100, Boston, MA 02109-3912. During the public comment period, the proposed Consent Decree may also be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.75 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-270 Filed 1-8-10; 8:45 am]

BILLING CODE 4410-15-P